DEPARTMENT OF COMMERCE

National Oceanic and Atmospheric Administration

RIN 0648-XC471

New England Fishery Management Council; Public Meeting

AGENCY: National Marine Fisheries Service (NMFS), National Oceanic and Atmospheric Administration (NOAA), Commerce.

ACTION: Notice; public meeting.

SUMMARY: The New England Fishery Management Council's (Council) Recreational Advisory Panel will meet to consider actions affecting New England fisheries in the exclusive economic zone (EEZ).

DATES: The meeting will be held on Friday, February 15, 2013 at 9:30 a.m.

ADDRESSES: The meeting will be held at the DoubleTree by Hilton Boston North Shore, 50 Ferncroft Road, Danvers, MA 01923.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Recreational Advisory Panel (RAP) will meet to discuss recreational management measures for Gulf of Maine cod and Gulf of Maine haddock for fishing year 2013. Measures may need to be modified because of reduced quotas for these two stocks. The RAP will consider alternative management measures and may make recommendations for changes to account for these reductions. The RAP's advice will be provided to the New England Fishery Management Council and its Groundfish Oversight Committee. These two bodies may develop recommendations based on this advice which will be forwarded to the National Marine Fisheries Service (NMFS) for consideration. Framework Adjustment 48, currently under review, may revise measures to allow changes to recreational management measures in advance of the fishing year in order to reduce the possibility of overages, or facilitate harvesting the recreational allocations. Subject to the final decision on this management measure that was proposed in Framework Adjustment 48, NFMS may adjust measures for fishing year 2013. Any changes would be announced as soon as possible. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: January 25, 2013.
Tracey L. Thompson,
Acting Deputy Director, Office of Sustainable Fisheries, National Marine Fisheries Service.

[FR Doc. 2013-01943 Filed 1-29-13; 8:45 am]

BILLING CODE 3510-22-P